DEPARTMENT OF AGRICULTURE

Forest Service

Notice of Proposed New Fee Sites; Federal Lands Recreation Enhancement Act

AGENCY: Huron-Manistee National Forests, USDA Forest Service.

ACTION: Notice of proposed new fee sites.

SUMMARY: The Huron-Manistee National Forests proposes to charge fees at several campsites and special recreation areas. Fees range from $5 per day to $60 per day based on the level of amenities and services provided, cost of operations and maintenance, and market assessment. A new day use fee of $5 per vehicle is proposed for Iargo Springs Interpretive Site, McKinley Horse Trailhead, Luzerne Horse Trailhead, and Eagle Run Cross Country Ski Trailhead. New camping fees of $10 per night are proposed for Red Bridge Access, Sulak Recreation Area, McKinley Horse Trail Campsites, Buttercup Backcountry Campsites, Cathedral Pines Backcountry Group Campsite, Meadow Springs Backcountry Campsites, Bear Island Backcountry Campsites, River Dune Backcountry Campsites, Luzerne Horse Trail Campground, and Government Landing Access Campsites. New group campground fees of $45 per night are proposed for the group sites at AuSable Loop Recreation Area Campground, Mack Lake ORV Campground, Kneff Lake Recreation Area, and Gabions Campground.

New group campground fee of $60 per night is proposed for the group sites at McKinley Horse Trail Campground, Luzerne Horse Trail Campground, and River Road Horse Trail Camp.

Fees will be determined upon further analysis and public comment. An analysis of nearby campsites with similar amenities shows that the proposed fees are reasonable and typical of similar sites in the area. Funds from fees would be used for the continued operation and maintenance and improvements of these sites.

DATES: Comments will be accepted through September 28, 2018. New fees would begin May 2019, if approved.

ADDRESSES: Leslie M. Auriemmo, Forest Supervisor, Huron-Manistee National Forests, 1755 South Mitchell Street, Cadillac, MI 49601.

FOR FURTHER INFORMATION CONTACT: Kristen Thrall, Recreation Program Manager, 231-775-2421. Information about proposed fee changes can also be found on the Huron-Manistee National Forests' website: http://www.fs.usda.gov/hmnf/.

SUPPLEMENTARY INFORMATION: The Federal Recreation Lands Enhancement Act (Title VII, Pub. L. 108-447) directed the Secretary of Agriculture to publish a six-month advance notice in the Federal Register whenever new recreation fee areas are established.

Once public involvement is complete, these new fees will be reviewed by a Recreation Resource Advisory Committee prior to a final decision and implementation.

Dated: August 28, 2018.
Chris French,
Acting Deputy Chief, National Forest System.

[FR Doc. 2018-19964 Filed 9-13-18; 8:45 am]

BILLING CODE 3411-15-P